DEPARTMENT OF THE TREASURY

United States Mint

Agency Information Collection Activity; Proposed Collection; U.S. Coinage Practices

AGENCY: United States Mint, Department of the Treasury.

ACTION: Notice and Comment.

SUMMARY: The United States Mint, a bureau of the Department of the Treasury, is announcing an opportunity for public comment on the proposed collection of certain information regarding the public's use of U.S. coins with special emphasis on the possible use of alternative metals in U.S. coinage. Under the Paperwork Reduction Act of 1995 (PRA), agencies are required to publish notice in the Federal Register concerning each proposed collection of information and to allow 60 days for public comment in response to the notice. This notice solicits comments on a proposed information collection concerning U.S. coinage practices as required to determine the public's interest according to the Coin Modernization, Oversight, and Continuity Act of 2010 (Pub. L. 111-302).

DATES: Submit either electronic or written comments on the collection of information by 60 days after the notice is published.

ADDRESSES: Submit electronic comments on the collection of information to U.S.Coinage PracticesAM@usmint.treas.gov. Submit all written comments to U.S. Coinage Practices—Alternative Metals; Office of Coin Studies; United States Mint; 801 9th Street NW.; Washington, DC 20220.

FOR FURTHER INFORMATION CONTACT: Yvonne Pollard; Compliance Branch; United States Mint; 801 9th Street NW.; 6th Floor; Washington, DC 20220; 202-354-8400 (this is not a toll-free number); YPollard@usmint.treas.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice of the proposed collection of information before submitting the proposed collection of information to OMB for approval. To comply with this requirement, we are publishing notice of the proposed collection of information described in this document.

With respect to the following collection of information, the United States Mint invites comments on—(1) Whether the proposed collection of information is necessary for the proper performance of the United States Mint's functions, including whether the information will have practical utility; (2) the accuracy of the United States Mint's estimate of the burden of the proposed collection, including the validity of the methodology and assumptions used; (3) ways to enhance the quality, utility, and clarity of the information to be collected; and (4) ways to minimize the burden of the collection of information on respondents, including through the use of automated collection techniques, when appropriate, and other forms of information technology.

U.S. Coinage Practices Survey

The Coin Modernization, Oversight, and Continuity Act of 2010, Public Law 111-302, section 2(b)(3), authorizes the Secretary of the Treasury to consider such factors he deems appropriate and in the public interest when preparing a report and recommendations to Congress on the Nation's circulating coins.

Understanding the public's use and perception of United States circulating coins and coin usage is necessary for the United States Mint to carry out its mission to mint and issue circulating coins in amounts that the Secretary of the Treasury determines are necessary to meet the needs of the United States and to prepare recommendations to Congress, as authorized by Public Law 111-302. The information collected will cover the following topics concerning the use of alternative metals in the production of circulating coins:

1. Metallic content

2. color

3. design change

4. height/relief of elements

5. density/weight

6. related savings to taxpayer

7. related cost to industry

The data will be used to understand the public's use and perception of circulating coins and specific factors relating to alternative metal materials under consideration. The purpose is to analyze options and propose recommendations for possible changes to the nation's circulating coins. To obtain this information, the United States Mint will conduct both qualitative and quantitative research.

Qualitative Research

Focus Groups

Focus groups provide an important role in gathering information because they allow for a more in-depth understanding of the public's attitudes, motivations, and feelings than do quantitative studies. Focus groups serve the narrowly defined need for direct and informal opinion on a specific topic and as a qualitative research tool for these purposes:

• To obtain information that is useful for developing variables and measures for quantitative studies,

• To better understand the public's attitudes and emotions in response to topics and concepts, and,

• To refine additional quantitative study.

The United States Mint will use the focus group findings to test and refine quantitative studies and will conduct further research before making important recommendations regarding alternative metals used in the production of coins and policy concerning circulating coins. The focus groups will also allow the United States Mint to gauge consumers' responses to the physical characteristics of alternative metal coins when they experience them in person.

The United States Mint estimates the burden of this collection of information as follows:

Activity | Number of respondents | Annual frequency per response | Total annual responses | Hours per response | Total hours
Focus Group Interviews | 90 | 1 | 90 | 1.5 | 135
There are no capital costs or operating and maintenance costs associated with this collection of information.

For the purpose of studying the Nation's coinage practices, the United States Mint projects the need for one focus group study using 10 focus groups with an average of nine persons per group, and lasting an average of 1.5 hours each.

Quantitative Research

Online Survey

The online survey will randomly sample individuals, 18 years of age and older, in the United States, who are members of the Ipsos i-Say panel, an online, opt-in panel of approximately 600,000 individuals. These individuals have provided their email addresses and demographic information, allowing the sample to be selected so that the demographics of survey participants will reflect those of the general population.

The survey will be used to conduct a discrete choice experiment where individuals will be asked to compare and rate different scenarios of possible metallic composition of circulating coins. This exercise will be used to assist in establishing the public's policy preferences regarding different changes in the metallic composition of circulating coins. The survey will also gather demographic and psychographic data to better understand the characteristics correlated with different preferences, and will include attitudinal and behavioral questions that allow survey responses to be calibrated to the findings of a nationally representative telephone survey being carried out by the United States Mint. This information will help the United States Mint analyze the implications of different policy options and propose recommendations for possible changes to the Nation's circulating coins.

The estimated total number of respondents and the estimated amount of time for an average respondent to respond: 1,200 respondents averaging 12 minutes per response.

The estimated total public burden (in hours) associated with the collection: 240 annual burden hours.

Telephone Survey

The data will be used to understand the public's use and perception of specific U.S. circulating coinage for the purpose of analyzing options and proposing recommendations for possible changes to the Nation's circulating coins.

To obtain this information, the United States Mint will conduct a nationally representative random-digit-dial survey of 1,000 U.S. adults. The proposed survey will include both landline (700 interviews) and cellular (300 interviews) telephones. Interviewing will be conducted in both English and Spanish. Up to seven attempts will made to reach each sampled household. The questionnaire should take 12 minutes to complete, including two minutes to screen for eligible participants (adults in the cellular telephone sample, the adult with the most recent birthday in the household in the landline telephone survey). The United States Mint estimates the burden of this collection of information will be as described in the table below.

Survey component | Estimated time to complete (minutes) | Population | Total burden
Screener | 2 | 1250 | 41.67
Main survey | 10 | 1000 | 166.67

Comments

Comments submitted in response to this notice will be summarized and/or included in the request for OMB approval.

Authority: 31 U.S.C. 5112(p)(3)(A); Public Law 111-302, section 2(b)(3).

Dated: May 5, 2014.
Richard A. Peterson,
Deputy Director, United States Mint.

[FR Doc. 2014-10723 Filed 5-8-14; 8:45 am]

BILLING CODE P